DEPARTMENT OF HEALTH AND HUMAN SERVICES

National Institutes of Health

Proposed Collection; Comment Request Evaluation of the Impact of the New Conflicts of Interest Regulations on the National Institutes of Health's Ability To Recruit and Retain Staff

Summary: In compliance with the requirement of Section 3506(c)(2)(A) of the Paperwork Reduction Act of 1995, for opportunity for public comment on proposed data collection projects, the Office of Human Resources (OHR) of the National Institutes of Health (NIH) will publish periodic summaries of proposed projects to be submitted to the office of Management and Budget (OMB) for review and approval.

Proposed Collection

Title: Evaluation of the Impact of the Conflicts of Interest Regulations on the National Institutes of Health's Ability to Recruit and Retain Staff. Type of Information Collection Request: New Collection. Need and Use of Information Collection: To assess the impact of new Department of Health and Human Services (HHS) ethics regulations on the NIH's ability to continue to attract and recruit highly qualified scientific personnel. This information collection is essential to the mission of the NIH [42 U.S.C. 241 and 282(b)(1)]. In December 2003, the House Energy and Commerce Committee raised concerns about potential conflicts of interest at NIH. In response to these concerns, the NIH Director, Dr. Elias Zerhouni, ordered an internal investigation into consulting agreements at NIH and in June 2004 proposed changes to the agency's conflict-of-interest policies. Effective February 3, 2005, the new regulations (5 CFR Parts 5501 and 5502, “Supplemental Standards of Ethical Conduct and Financial Disclosure Requirements for Employees of the Department of Health and Human Services,” FR Vol. 70, No. 22, Thursday, February 3, 2005, 5543-5565, and Vol. 70, No. 168, Wednesday, August 31, 2005, 51559-51574) apply to all NIH employees and, among other things, place limits on certain financial holdings of the most senior NIH employees, their spouses, and minor children and on certain outside activities in which NIH staff may engage. Gauging both the immediate and longer term impact of these new rules is crucial to NIH's ability to develop and maintain a world-class staff. This project will produce data that will help NIH and HHS leaders determine the impact of the regulations and how to minimize the effect of the regulations on NIH's ability to recruit and retain staff. NIH intends to survey potential applicants for NIH employment from scientific organizations from which NIH has traditionally drawn leading scientific personnel, and those senior scientists and administrators who have voluntarily left NIH since February 2005. This will allow NIH to determine whether the regulations impact individuals' attitudes about employment at NIH and the likelihood of their joining and/or leaving the agency.

Frequency of Response: One time. Affected Public: Individuals and households. Type of Respondent: Highly trained and qualified scientists engaged in medicine and life sciences research. The annual reporting burden is as follows: Estimated Number of Respondents: 500; Estimated Number of Responses per Respondent: One; Average Burden Hours Per Response: 15 minutes; and Estimated Total Annual Burden Hours Requested: 117 hours. The annualized cost to respondents is estimated at $3,850. There are no Capital Costs, Operating Costs, or Maintenance Costs to report.

Request for Comments

Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) (enhance the quality, utility, and clarity of the information to be collected; and (4) Minimize the burden of the collection of information on those who are to respond, including the use of appropriate automated electronic, mechanical, or other technological collection techniques or other forms of information technology.

Comments Due Date

Comments regarding this information collection are best assured of having their full effect if received within 60 days of the date of this publication.

For More Information or to Direct Comments: To submit comments, to request more information on the proposed project, or to obtain a copy of the data collection plans and instruments, contact Mr. Richard M. Taffet, Acting Director, Client Services Division; Office of Human Resources, Office of the Director, National Institutes of Health, Room 2-D234, East Jefferson Street, Bethesda, MD 20892-8502, or call the non-toll-free number (301) 402-6627, or e-mail your comments or request, including your address, to: taffetr@mail.nih.gov.

Dated: January 23, 2006.
Raynard S. Kington,
Deputy Director, National Institutes of Health.

[FR Doc. 06-845 Filed 1-27-06; 8:45 am]

BILLING CODE 4140-01-M